DEPARTMENT OF HEALTH AND HUMAN SERVICES

Food and Drug Administration

[Docket No. FDA-2013-D-1543]

Agency Information Collection Activities; Submission for Office of Management and Budget Review; Comment Request; Guidance for Industry on Nonproprietary Naming of Biological Products; Withdrawal

AGENCY: Food and Drug Administration, HHS.

ACTION: Withdrawal of notice.

SUMMARY: This document withdraws a Food and Drug Administration (FDA) notice that published in the Federal Register of June 2, 2016 (81 FR 35367).

DATES: This notice is withdrawn on June 22, 2016.

FOR FURTHER INFORMATION CONTACT: Howard Muller, Center for Drug Evaluation and Research (CDER), 10903 New Hampshire Ave., Bldg. 51, Rm. 6234, Silver Spring, MD 20993-0002, 301-796-3474.

SUPPLEMENTARY INFORMATION: FDA published a notice in the Federal Register of June 2, 2016, informing interested parties that the proposed collection of information entitled “Guidance for Industry on Nonproprietary Naming of Biological Products” had been submitted to the Office of Management and Budget (OMB) for review and clearance under the Paperwork Reduction Act of 1995 and inviting the public to submit comments on the proposed collection to OMB. FDA is withdrawing the proposed collection of information that published on June 2, 2016, at this time.

Dated: June 16, 2016.
Leslie Kux,
Associate Commissioner for Policy.

[FR Doc. 2016-14722 Filed 6-21-16; 8:45 am]

BILLING CODE 4164-01-P